DEPARTMENT OF ENERGY

Federal Energy Regulatory Commission

[Docket Nos. CP05-144-000; CP05-150-000; CP05-151-000, CP05-152-000]

Columbia Gas Transmission Corporation and Hardy Storage Company, LLC; Notice of Application

May 5, 2005.

Take notice that on April 25, 2005, Hardy Storage Company, LLC (Hardy Storage), 12801 Fair Lakes Parkway, Fairfax, Virginia 22033, and Columbia Gas Transmission Corporation (Columbia), 1700 MacCorkle Avenue, SE., Charleston, West Virginia 25314, filed with the Federal Energy Regulatory Commission (Commission) applications under Section 7(b) and (c) of the Natural Gas Act to develop a new underground natural gas storage facility situated in Hardy and Hampshire Counties, West Virginia, as well as abandon certain transmission assets, and to construct approximately 33.1 miles of 24-inch pipeline loop in Shenandoah, Rockingham, Page, Greene and Louisa Counties, Virginia to provide transportation service for certain Hardy Storage customers. The storage facilities will have a working gas capacity of 12.4 MMDth with a maximum deliverability of 176,000 Dth/d. The storage and pipeline facilities will include among other things, a new natural gas fired compressor station, natural gas pipelines and storage wells, all as more fully detailed in the applications.

Hardy Storage also requests the Commission to authorize blanket certificates pursuant to subpart G of 18 CFR, part 284, and subpart F of 18 CFR, part 157 of the Commission's regulations, and to approve the initial rates and pro forma FERC Gas Tariff included in their application.

These applications are on file with the Commission and open to public inspection. These filings are available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659. Any questions regarding this application should be directed to counsel for Columbia and Hardy Storage, Fredric J. George, Senior Attorney, Columbia Gas Transmission Corporation, P.O. Box 1273, Charleston, West Virginia 25325-1273; telephone (304) 357-2359, fax (304) 357-3206.

On August 2, 2004 the Commission staff granted Hardy Storage's and Columbia's request to utilize the National Environmental Policy Act (NEPA) Pre-Filing Process and jointly assigned Docket No. PF04-14-000 to staff activities involving the Hardy Storage and Columbia projects. Now, as of the filing of Hardy Storage's and Columbia's applications on April 25, 2005, the NEPA Pre-Filing Process for those projects has ended. From this time forward, Hardy Storage's and Columbia's proceeding will be conducted in Docket Nos. CP05-144-000, et al., as noted in the caption of this Notice.

There are two ways to become involved in the Commission's review of this project. First, any person wishing to obtain legal status by becoming a party to the proceedings for this project should, on or before the comment date listed below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of this filing and all subsequent filings made with the Commission and must mail a copy of all filing to the applicant and to every other party in the proceeding. Only parties to the proceeding can ask for court review of Commission orders in the proceeding.

However, other persons do not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to this project provide copies of their protests only to the party or parties directly involved in the protest.

Persons may also wish to comment further only on the environmental review of this project. Environmental commenters will be placed on the Commission's environmental mailing list, will receive copies of environmental documents issued by the Commission, and will be notified of meetings associated with the Commission's environmental review process. Those persons, organizations, and agencies who submitted comments during the NEPA Pre-Filing Process in Docket No. PF04-14-000 are already on the Commission staff's environmental mailing list for the proceeding in the above dockets and may file additional comments on or before the below listed comment date. Environmental commentors will not be required to serve copies of filed documents on all other parties. However, environmental commentors are also not parties to the proceeding and will not receive copies of all documents filed by other parties or non-environmental documents issued by the Commission. Further, they will not have the right to seek court review of any final order by Commission in this proceeding.

The Commission strongly encourages electronic filings of comments, protests, and interventions via the internet in lieu of paper. See 18 CFR 385.2001(a)(1)(iii) and the instructions on the Commission's Web site (http://www.ferc.gov) under the “e-Filing” link.

Comment Date: May 26, 2005.

Magalie R. Salas,
Secretary.

[FR Doc. E5-2312 Filed 5-11-05; 8:45 am]

BILLING CODE 6717-01-P